DEPARTMENT OF COMMERCE

International Trade Administration

[A-489-822]

Welded Line Pipe From the Republic of Turkey: Partial Rescission and Preliminary Intent to Rescind the Antidumping Duty Administrative Review; 2019-2020

AGENCY: Enforcement and Compliance, International Trade Administration, Department of Commerce.

SUMMARY: The Department of Commerce (Commerce) is rescinding this administrative review with respect to companies for which requests for review were timely withdrawn and preliminarily rescinding this administrative review with respect to Cimtas Boru Imalatlari ve Ticaret, Ltd. Sti. The period of review (POR) is December 1, 2019, through November 30, 2020. Interested parties are invited to comment on this preliminary rescission.

DATES: Applicable January 4, 2022.

FOR FURTHER INFORMATION CONTACT: Alice Maldonado, AD/CVD Operations, Office II, Enforcement and Compliance, International Trade Administration, U.S. Department of Commerce, 1401 Constitution Avenue NW, Washington, DC 20230; telephone: (202) 482-4682.

SUPPLEMENTARY INFORMATION:

Background

On February 4, 2021, based on timely requests for review in accordance with section 751(a)(1) of the Tariff Act of 1930, as amended (the Act), we initiated an administrative review of the antidumping duty order on welded line pipe from the Republic of Turkey (Turkey).¹ This review covers 19 producers and/or exporters of the subject merchandise.

¹ See Initiation of Antidumping and Countervailing Duty Administrative Reviews, 86 FR 8166, 8171 (February 4, 2021).

On April 27, 2021, the petitioners ² withdrew their request for an administrative review with respect to 18 companies.³ The petitioners did not withdraw their review request for Cimtas Boru Imalatlari ve Ticaret, Ltd. Sti. (Cimtas).⁴

² The petitioners are Maverick Tube Corporation and IPSCO Tubulars Inc.

³ See Petitioners' Letter, “Welded Line Pipe from Turkey: Partial Withdrawal of Request for Administrative Review of Antidumping Duty Order,” dated April 27, 2021.

⁴ Id.

On August 18, 2021, Commerce extended the preliminary results of this review by 119 days, until December 30, 2021.⁵ For a complete description of the events that followed the initiation of this review, see the Preliminary Decision Memorandum.⁶

⁵ See Memorandum, “Welded Line Pipe from Turkey: Extension of Deadline for Preliminary Results of 2019-2020 Antidumping Duty Administrative Review,” dated August 18, 2021.

⁶ See Memorandum, “Decision Memorandum for the Partial Rescission and Preliminary Intent to Rescind the 2019-2020 Administrative Review of the Antidumping Duty Order on Welded Line Pipe from the Republic of Turkey,” dated concurrently with, and hereby adopted by, this notice (Preliminary Decision Memorandum).

Scope of the Order

The products covered by the order include circular welded carbon and alloy steel (other than stainless steel) pipe from Turkey. Imports of subject merchandise are currently classified under the Harmonized Tariff Schedule of the United States (HTSUS) subheadings 7305.11.1030, 7305.11.5000, 7305.12.1030, 7305.12.5000, 7305.19.1030, 7305.19.5000, 7306.19.1010, 7306.19.1050, 7306.19.5110, and 7306.19.5150. The subject merchandise may also enter in HTSUS 7305.11.1060 and 7305.12.1060. While the HTSUS subheadings are provided for convenience and customs purposes, the written description of the scope of the order is dispositive.⁷

⁷ For a complete description of the scope, see the Preliminary Decision Memorandum.

Methodology

Commerce is conducting this review in accordance with section 751(a)(1)(B) and (2) of the Tariff Act of 1930, as amended (the Act). For a full description of the methodology underlying our decision, see the Preliminary Decision Memorandum. A list of the sections in the Preliminary Decision Memorandum is attached in Appendix II of this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Partial Rescission of Administrative Review

Pursuant to 19 CFR 351.213(d)(1), Commerce will rescind an administrative review, in whole or in part, if a party who requested the review withdraws the request within 90 days of the date of publication of notice of initiation of the requested review. On April 27, 2021, the petitioners timely withdrew their requests for an administrative review for the 18 companies listed in Appendix I of this notice. No other party requested a review of these companies. Accordingly, we are rescinding this review, in part, with respect to these companies, pursuant to 19 CFR 351.213(d)(1).

Preliminary Intent To Rescind Administrative Review

Regarding the remaining company, Cimtas, as discussed in the Preliminary Decision Memorandum, Commerce preliminarily finds that Cimtas had no reviewable shipments, sales, or entries of subject merchandise during the POR.⁸ Therefore, we are preliminarily rescinding this review with respect to Cimtas, in accordance with 19 CFR 351.213(d)(3).

⁸ See Preliminary Decision Memorandum.

Verification

On May 17, 2020, Commerce received a request from the petitioners to conduct verification of Cimtas's statement that it had no reviewable shipments or sales during the POR and no entries of welded line pipe during the POR were manufactured by Cimtas.⁹ Commerce is currently unable to conduct on-site verification of the information relied upon in this review. However, we took additional steps in lieu of an on-site verification to verify this information, in accordance with section 782(i) of the Act.¹⁰

⁹ See Petitioner's Letter, “Welded Line Pipe from Turkey: Request for Verification,” dated May 17, 2020.

¹⁰ See Commerce's Letter, Antidumping Administrative Review of Welded Line Pipe from the Republic of Turkey, dated July 21, 2021; see also Cimtas's Letter, “Antidumping Administrative Review of Welded Line Pipe from the Republic of Turkey: Response to Questions,” dated August 4, 2021.

Public Comment

Interested parties are invited to comment on the preliminary rescission of this review. Case briefs or other written comments may be submitted to Commerce no later than 30 days after the date of publication of this notice.¹¹ Rebuttal briefs, limited to issues raised in case briefs, may be submitted no later than seven days after the deadline for case briefs.¹² Pursuant to 19 CFR 351.309(c)(2) and (d)(2), parties who submit case briefs or rebuttal briefs in this proceeding are encouraged to submit with each argument: (1) A statement of the issue; (2) a brief summary of the argument; and (3) a table of authorities.¹³

¹¹ See 19 CFR 351.309(c).

¹² See Temporary Rule Modifying AD/CVD Service Requirements Due to COVID-19, 85 FR 17006 (March 26, 2020); see also Temporary Rule Modifying AD/CVD Service Requirements Due to COVID-19; Extension of Effective Period, 85 FR 41363 (July 10, 2020) (Temporary Rule).

¹³ See 19 CFR 351.309(c)(2) and (d)(2).

Pursuant to 19 CFR 351.310(c), interested parties who wish to request a hearing must submit a written request to the Assistant Secretary for Enforcement and Compliance, U.S. Department of Commerce, filed electronically via ACCESS within 30 days after the date of publication of this notice.¹⁴ Hearing requests should contain: (1) The party's name, address, and telephone number; (2) the number of participants; and (3) a list of issues to be discussed. Issues raised in the hearing will be limited to issues raised in the briefs. If a request for a hearing is made, Commerce intends to hold the hearing at a date and time to be determined.¹⁵ Parties should confirm the date, time, and location of the hearing two days before the scheduled date.

¹⁴ See 19 CFR 351.310(c).

¹⁵ See 19 CFR 351.310(d).

An electronically-filed document must be received successfully in its entirety via Enforcement and Compliance's Antidumping and Countervailing Duty Centralized Electronic Service System (ACCESS) by 5:00 p.m. Eastern Time on the established deadline. Note that Commerce has temporarily modified certain of its requirements for serving documents containing business proprietary information.¹⁶

¹⁶ See Temporary Rule.

Commerce intends to issue the final results of this administrative review, including the results of its analysis of issues raised in any written briefs, not later than 120 days after the date of publication of this notice, unless otherwise extended.¹⁷

¹⁷ See section 751(a)(3)(A) of the Act.

Assessment

Commerce will instruct U.S. Customs and Border Protection (CBP) to liquidate any suspended entries for the 18 companies listed in Appendix I at the rate in effect at the time of entry. Further, we previously deferred Cimtas's sales reporting for entries made during the 2018-2019 POR to this administrative review and stated that the 2018-2019 POR entries “will remain suspended until the completion of the review and will be liquidated based on the final results for Cimtas.¹⁸ Thus, if Commerce proceeds to a final rescission of this administrative review with respect to Cimtas, Commerce will instruct CBP to assess antidumping duties on and liquidate any of Cimtas's suspended entries at the cash deposit rate in effect at the time of entry, including any suspended entries from the 2018-2019 POR.

¹⁸ See Welded Line Pipe from the Republic of Turkey: Final Rescission of Antidumping Duty Administrative Review, in Part, and Final Deferral of Administrative Review, in Part; 2018-2019, 86 FR 17363, 17364 (April 2, 2021).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

If Commerce proceeds to a final rescission of this administrative review, no cash deposit rates will change. Accordingly, the current cash deposit requirements shall remain in effect until further notice.

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) of the Act and 19 CFR 351.213(d).

Dated: December 27, 2021.
Ryan Majerus,
Deputy Assistant Secretary for Policy and Negotiations, performing the non-exclusive functions and duties of the Assistant Secretary for Enforcement and Compliance.

Appendix I

1. Borusan Istikbal Ticaret

2. Borusan Mannesmann Boru Sanayi ve Ticaret A.S.

3. Cayirova Boru Sanayi ve Ticaret A.S.

4. Emek Boru Makina Sanayi ve Ticaret A.S.

5. Erbosan Erciyas Tube Industry and Trade Co. Inc.

6. Erciyas Celik Boru Sanayii A.S.

7. Guven Celik Boru Sanayii ve Ticaret Ltd. Sti.

8. Has Altinyagmur celik Boru Sanayii ve Ticaret Ltd. Sti.

9. HDM Steel Pipe Industry & Trade Co. Ltd.

10. Metalteks Celik Urunleri Sanayii

11. MMZ Onur Boru Profil Uretim Sanayii ve Ticaret A.S.

12. Noksel Steel Pipe Co. Inc.

13. Ozbal Celik Boru

14. Toscelik Profile and Sheet Industry, Co.

15. Tosyali Dis Ticaret A.S.

16. Umran Celik Boru Sanayii

17. YMS Pipe & Metal Sanayii A.S.

18. Yucelboru Ihracat Ithalat Pazzarlam

Appendix II

List of Sections in the Preliminary Decision Memorandum

I. Summary

II. Background

III. Scope of the Order

IV. Partial Rescission of Administrative Review

V. Preliminary Intent To Rescind Administrative Review

VI. Recommendation

[FR Doc. 2021-28507 Filed 1-3-22; 8:45 am]

BILLING CODE 3510-DS-P